SMALL BUSINESS ADMINISTRATION

[Declaration of Economic Injury Disaster #9K67]

Commonwealth of Massachusetts (And Contiguous Counties in Connecticut, New York and Vermont)

Berkshire County and the contiguous counties of Franklin, Hampden, and Hampshire in the Commonwealth of Massachusetts; Litchfield in Connecticut; Columbia and Rensselaer in New York; and Bennington in Vermont constitute an economic injury disaster loan area as a result of a fire that occurred on January 17, 2001 in the Town of Great Barrington. Eligible small businesses and small agricultural cooperatives without credit available elsewhere may file applications for economic injury assistance as a result of this disaster until the close of business on November 2, 2001 at the address listed below or other locally announced locations: U.S. Small Business Administration, Disaster Area 1 Office, 360 Rainbow Blvd, South 3rd Floor, Niagara Falls, NY 14303.

The interest rate for eligible small businesses and small agricultural cooperatives is 4 percent. The numbers assigned for economic injury for this disaster are 9K6700 for Massachusetts; 9K6800 for Connecticut; 9K6900 for New York; and 9K7000 for Vermont.

(Catalog of Federal Domestic Assistance Program No. 59002)
Date: February 2, 2001.
Kristine Marcy,
Acting Administrator.

[FR Doc. 01-3403 Filed 2-8-01; 8:45 am]

BILLING CODE 8025-01-P